DEPARTMENT OF ENERGY

Federal Energy Regulatory Commission

[Project No. 11836-001]

BMB Enterprises, Inc.; Notice of Surrender of Exemption

Pursuant to section 4.95(a) of the Commission's regulations,¹ BMB Enterprises, Inc. filed with the Commission a petition to surrender its exemption from licensing for the unconstructed Pinesdale Project No. 11836,² stating that the proposed project is no longer economically practicable.³ The project would have been located in Ravalli County, Montana on the existing Pinesdale Pipeline, which draws water from Sheafman Creek, and was described as: An existing powerhouse on the 12-inch-diameter steel Pinesdale Pipeline with one new generating unit having an installed capacity of 150-kV.

¹ 18 CFR 4.95(a) (2011).

² The Commission issued a conduit exemption for Project No. 11836-000 on July 06, 2000. BMB Enterprises, Inc., 92 FERC ¶ 62,008 (2000).

³ See filing of August 5, 2011 by BMB Enterprises, Inc.

Section 4.95(c) of the Commission's regulations states that if no construction has begun, an exemption will remain in effect through the thirtieth day after the Commission issues a public notice of receipt of the petition, unless the Commission issues an order to the contrary.⁴ Accordingly, BMB Enterprises, Inc.'s surrender of its exemption from licensing will be effective at the close of business on September 21, 2011. If the Commission is closed on that day, then the surrender is effective at the close of business on the next day in which the Commission is open.⁵ No applications for this site may be submitted until after the surrender is effective.

⁴ 18 CFR 4.95(c) (2011).

⁵ 18 CFR 385.2007(a)(2) (2011).

Dated: August 23, 2011.
Kimberly D. Bose,
Secretary.

[FR Doc. 2011-21981 Filed 8-26-11; 8:45 am]

BILLING CODE 6717-01-P